DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention (CSAP) National Advisory Council will meet on August 23, 2016, 4:30 p.m.-5:00 p.m., in Rockville, MD.

The meeting will include the review, discussion, and evaluation of grant applications reviewed by the Initial Review Group, and involve an examination of confidential financial and business information as well as personal information concerning the applicants. Therefore, these meetings will be closed to the public as determined by the SAMHSA Administrator, in accordance with Title 5 U.S.C. 552b(c)(4) and (c)(6); and 5 U.S.C. App. 2, Section 10(d).

This notice is published less than 15 days prior to the start of the announced meeting, in accordance with 41 CFR 102-3.150(b), in order to enable the review of an additional Strategic Prevention Framework Partnerships for Success grant application, and applications for SAMSHA's Tribal Behavioral Health Grants program. These grant applications were not ready for discussion during the July 25th NAC Review, and both grant programs use Fiscal Year 2016 annual appropriations. Therefore, it is necessary to review these grant programs as soon as possible so that SAMSHA can award grant funds to successful applicants prior to the end of the Fiscal Year.

Committee name: Substance Abuse and Mental Health Services Administration, Center for Substance Abuse Prevention National Advisory Council.

Date/time/type: August 23, 2016, 4:30 p.m.-5:00 p.m. (CLOSED).

Place: SAMHSA Building, 5600 Fishers Lane, Rockville, MD 20857.

Contact: Matthew J. Aumen, Designated Federal Officer, SAMHSA/CSAP National Advisory Council, 5600 Fishers Lane, Rockville, MD 20857, Email: Matthew.Aumen@samhsa.hhs.gov.

Charles LoDico,
Senior Chemist/Toxicologist, SAMHSA.

[FR Doc. 2016-19989 Filed 8-19-16; 8:45 am]

BILLING CODE 4162-20-P